DEPARTMENT OF ENERGY

Federal Energy Regulatory Commission

[Docket No. CP16-9-000]

Algonquin Gas Transmission, LLC; Maritimes & Northeast Pipeline, LLC; Notice of Schedule for Environmental Review of the Atlantic Bridge Project

On October 22, 2015, Algonquin Gas Transmission, LLC and Maritimes & Northeast Pipeline, LLC, collectively referred to as the Applicants filed an application in Docket No. CP16-9-000 requesting a Certificate of Public Convenience and Necessity pursuant to Section 7 of the Natural Gas Act to construct, abandon, and operate certain natural gas pipeline facilities. The proposed project is known as the Atlantic Bridge Project (Project), and would allow the Applicants to provide an additional 132.7 million standard cubic feet per day of natural gas to customers in Massachusetts, Maine, and Canada.

On November 5, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA May 2, 2016

90-day Federal Authorization Decision Deadline July 31, 2016

If a schedule change becomes necessary, additional notice will be provided so that the relevant agencies are kept informed of the Project's progress.

Project Description

The proposed Project includes replacing about 6.3 miles of existing 26-inch-diameter mainline pipeline with 42-inch-diameter pipeline in two segments in Westchester County, New York and Fairfield County, Connecticut.

In addition to the pipeline facilities, the Applicants propose to modify or construct four compressor stations in Rockland County, New York; New Haven and Windham Counties, Connecticut; and Norfolk County, Massachusetts adding a total of 26,500 horsepower. The Applicants also propose to modify/construct/remove seven metering and/or regulating stations in New York, Connecticut, Massachusetts, and Maine.

Background

On April 27, 2015, the Commission issued a Notice of Intent to Prepare an Environmental Assessment for the Planned Atlantic Bridge Project and Request for Comments on Environmental Issues (NOI). The NOI was issued during the pre-filing review of the Project in Docket No. PF15-12-000 and was sent to affected landowners; federal, state, and local government agencies; elected officials; environmental and public interest groups; Native American tribes; other interested parties; and local libraries and newspapers. Major issues raised during scoping primarily focused on a variety of environmental impacts from the proposed Weymouth Compressor Station in Massachusetts. Commenters also stated concerns about impacts on water supplies, wetlands, vegetation, wildlife, air quality, and safety. The U.S. Environmental Protection Agency is a federal cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-9), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 25, 2016.
Nathaniel J. Davis, Sr.,
Deputy Secretary.

[FR Doc. 2016-07261 Filed 3-30-16; 8:45 am]

BILLING CODE 6717-01-P